DEPARTMENT OF TRANSPORTATION

Office of the Secretary

Guidance on Review and Approval of Public Charter Prospectuses: Extension of Effective Date to January 14, 2013

AGENCY: Office of the Secretary, Department of Transportation.

ACTION: Guidance on Review and Approval of Public Charter Prospectuses: Extension of Effective Date to January 14, 2013.

SUMMARY: The Department is publishing the following notice extending the effective date of a prior notice, dated November 13, 2012, on policies affecting the review and approval of public charter filings under 14 CFR part 380.

FOR FURTHER INFORMATION CONTACT: Nicholas Lowry, Attorney, Office of Aviation Enforcement and Proceedings (C-70), 1200 New Jersey Ave. SE., Washington, DC 20590, (202) 366-9349.

Guidance on Review and Approval of Public Charter Prospectuses: Extension of Effective Date to January 14, 2013

On November 13, 2012, the Department of Transportation's Office of International Aviation and the Office of Aviation Enforcement and Proceedings issued a notice providing guidance on the review and approval of public charter prospectuses. 77 FR 69692 (2012). The notice was to have taken effect on December 12, 2012. By this addendum, we are deferring the implementation date until January 14, 2013.

The notice was issued in light of the bankruptcy of Southern Sky Air & Tours, LLC d/b/a Direct Air. Our investigation of Direct Air revealed non-compliance with a number of existing regulatory requirements designed to protect consumers. Based on the Direct Air experience, we determined that by clarifying certain elements of our public charter regulations (14 CFR Part 380) we could promote more effective compliance with those regulations and thereby enhance consumer protection.

We have received a number of comments and questions from members of the public regarding the November notice. While we are firmly committed to enhancing consumer protection and preventing a recurrence of the type of problems encountered in the Direct Air situation, we want to be sure that interested parties with questions or comments about the notice have been afforded a reasonable opportunity to be heard, and that we have had the opportunity to consider their views fully. Therefore, we have decided to defer the effective date of our notice for 30 days, until January 14, 2013. Questions and comments regarding our November notice may be addressed to the Office of Aviation Enforcement and Proceedings (C-70), U.S. Department of Transportation, 1200 New Jersey Avenue SE., Washington, DC 20590.

An electronic version of this document is available at http://www.regulations.gov.

Dated: December 11, 2012.
Paul L. Gretch,
Director, Office of International Aviation.
Samuel Podberesky,
Assistant General Counsel for Aviation Enforcement and Proceedings.

[FR Doc. 2012-30293 Filed 12-14-12; 8:45 am]

BILLING CODE 4910-9X-P